DEPARTMENT OF DEFENSE

Office of the Secretary

[Docket ID: DoD-2014-OS-0053]

Proposed Collection; Comment Request

AGENCY: Defense Threat Reduction Agency, Defense Nuclear Weapons School, DoD.

ACTION: Notice.

SUMMARY: In compliance with Section 3506(c)(2)(A) of the Paperwork Reduction Act of 1995, the Defense Threat Reduction Agency, Defense Nuclear Weapons School announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by June 17, 2014.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Defense Threat Reduction Agency, Defense Nuclear Weapons School, ATTN: Registrar's Office, 1680 Texas St (BLDG 20362) Kirtland AFB, NM 87117-5669, or call Defense Nuclear Weapons School Registrars office, at (505)846-5666.

SUPPLEMENTARY INFORMATION: Title; Associated Form; and OMB Number: DTRA/SCC-WMD Defense Nuclear Weapons School Course Registration; DTRA/SCC Form 34 (November 2012); 0704-TBD.

Needs and Uses: The information collection requirement is necessary to obtain and record the data of personnel attending classes at Defense Nuclear Weapons School. This form is a means of validating personnel and granting access to Class as well as Schoolhouse Web site.

Affected Public: Individuals.

Annual Burden Hours: 20.

Number of Respondents: 120.

Responses per Respondent: 1.

Average Burden per Response: 10 minutes.

Frequency: On occasion.

Respondents are professionals wishing to attend any number of courses at Defense Nuclear Weapons School either online or at Kirtland AFB, Albuquerque NM. This data is provided to create a student account as well as track the student progress through various courses. The student history is also used for internal and external schoolhouse qualifications which are used in the personnel's professional development.

Dated: April 15, 2014.
Aaron Siegel,
Alternate OSD Federal Register Liaison Officer, Department of Defense.

[FR Doc. 2014-08901 Filed 4-17-14; 8:45 am]

BILLING CODE 5001-06-P